FEDERAL COMMUNICATIONS COMMISSION

[OMB 3060-0725]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before April 7, 2015. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: OMB Control Number: 3060-0725.

Title: Quarterly Nondiscrimination Recordkeeping (on Quality of Service, Installation and Maintenance) by Bell Operating Companies (BOCs).

Form Number: N/A.

Type of Review: Revision of a currently approved collection.

Respondents: Business or other for-profit entities.

Number of Respondents: 3 respondents; 12 responses.

Estimated Time per Response: 10 hours.

Frequency of Response: Quarterly recordkeeping requirement.

Obligation to Respond: Required to obtain or retain benefits. Statutory authority for this information collection is contained in 47 U.S.C. 151, 154, 201-205, 215, 218-220, 226 and 276.

Total Annual Burden: 120 hours.

Total Annual Cost: No cost.

Privacy Impact Assessment: No impact(s).

Nature and Extent of Confidentiality: The Commission is not requesting that the respondent submit confidential information to the FCC. Respondents may, however, request confidential treatment for information they believe to be confidential under 47 CFR 0.459 of the Commission's rules.

Needs and Uses: This information collection concerns the nondiscrimination records regarding quality of service, installation and maintenance by Bell Operating Companies (BOCs) pursuant to Computer III and Open Network Architecture (ONA) requirements. Formerly, BOCs were required to submit nondiscrimination reports with regard to payphones to prevent BOCs from discriminating in favor of their own payphones. The reports allowed the Commission to determine how the BOCs provided competing payphone providers with equal access to all the basic underlying network services that are provided to its own payphones.

Since the prior request for authorization, in Report and Order FCC No. 13-69, the Commission eliminated ONA narrowband (i.e., not broadband) quarterly nondiscrimination reporting requirements. However, the underlying recordkeeping obligations remain and the burden hours have decreased.

Federal Communications Commission.
Marlene H. Dortch,
Secretary, Office of the Secretary, Office of the Managing Director.

[FR Doc. 2015-02358 Filed 2-5-15; 8:45 am]

BILLING CODE 6712-01-P